DEPARTMENT OF THE INTERIOR

Office of the Secretary

Invitation for Proposals

AGENCY: Department of the Interior, Office of the Secretary.

ACTION: Invitation for proposals.

SUMMARY: The Exxon Valdez Oil Spill Trustee Council is asking the public, private organizations, and government agencies to submit proposals for restoration of resources and services injured by the Exxon Valdez oil spill. The Invitation to Submit Restoration Proposals for Federal Fiscal Year 2002, a booklet explaining the process, is available from the Trustee Council office.

DATES: Proposals are due April 13, 2001.

ADDRESSES: Exxon Valdez Oil Spill Trustee Council, 645 “G” Street, Suite 401, Anchorage, Alaska 99501.

FOR FURTHER INFORMATION CONTACT: The Restoration Office, (907) 278-8012 or toll free at (800) 478-7745 (in Alaska) or (800) 283-7745 (outside Alaska) or via e-mail at restoration@oilspill.state.ak.us.

SUPPLEMENTARY INFORMATION: Following the Exxon Valdez oil spill in March 1989, a Trustee Council of three state and three federal trustees, including the Secretary of the Interior, was formed. The Trustee Council prepared a restoration plan for the injured resources and services within the oil spill area. The restoration plan calls for annual work plans identifying projects to accomplish restoration. Each year proposals for restoration projects are solicited from a variety of organizations, including the public.

Dated: February 20, 2001.
Willie R. Taylor,
Director, Office of Environmental Policy and Compliance.

[FR Doc. 01-4632 Filed 2-23-01; 8:45 am]

BILLING CODE 4310-R6-M